DEPARTMENT OF AGRICULTURE

National Agricultural Statistics Service

Notice of Intent To Suspend the Distillers Co-Products Survey and All Associated Reports

AGENCY: National Agricultural Statistics Service, USDA.

ACTION: Notice of suspension of data collection and publication.

SUMMARY: This notice announces the intention of the National Agricultural Statistics Service (NASS) to suspend the Distillers Co-Products survey currently approved under docket 0535-0247.

FOR FURTHER INFORMATION CONTACT: Joseph T. Reilly, Associate Administrator, National Agricultural Statistics Service, U.S. Department of Agriculture, (202) 720-4333, or through the NASS OMB Clearance Officer at ombofficer@nass.usda.gov.

SUPPLEMENTARY INFORMATION:

Title: Suspension of Distillers Co-Products Survey.

OMB Control Number: 0535-0247.

Expiration Date of Approval: September 30, 2014.

Type of Request: To suspend a currently approved information collection.

Abstract: The primary objective of the National Agricultural Statistics Service (NASS) is to conduct surveys in order to prepare national, State, and county estimates of crop and livestock production, disposition, prices, and collect information on related environmental and economic factors.

Timeline: NASS will suspend this information collection as of November 17, 2011 due to increased budget constraints. Also, NASS will not publish any publications that would normally be generated from these data collections, unless there is a change in the anticipated budget shortfall.

Authority: These data were collected under authority of 7 U.S.C. 2204(a) (General Duties of the Secretary of Agriculture). Individually identifiable data collected under this authority are governed by Section 1770 of the Food Security Act of 1985, 7 U.S.C. 2276, which requires USDA to afford strict confidentiality to non-aggregated data provided by respondents.

Estimate of Burden: There will be no further public reporting burden for this collection of information.

Signed at Washington, DC, October 25, 2011.
Joseph T. Reilly,
Associate Administrator.

[FR Doc. 2011-29779 Filed 11-16-11; 8:45 am]

BILLING CODE 3410-20-P